DEPARTMENT OF COMMERCE

National Oceanic and Atmospheric Administration

RIN 0648-XH053

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (Council) will hold a meeting to get public feedback on the Saltonstall-Kennedy Grant Program.

DATES: The meeting will be held on Friday, June 14, 2019 at 10:30 a.m. For agenda details, see SUPPLEMENTARY INFORMATION.

ADDRESSES: The meeting will be held via webinar, and a link will be posted to the Council's website: www.mafmc.org.

Council address: Mid-Atlantic Fishery Management Council, 800 N. State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purpose of this meeting is to obtain public feedback and recommendations from fishing community constituents on ways to improve communications, dissemination, and utilization of results achieved through projects funded by the Saltonstall-Kennedy (S-K) Grant Program. Each year, S-K awards approximately $10 million to fisheries research and development projects (up to $300,000 per project). These projects are selected based on criteria used to determine how well they address the needs of fishing communities, demonstrate direct benefits to U.S. fishing industries (including both commercial and recreational fisheries), and involve fishing community participation.

Special Accommodations

The meeting is physically accessible to people with disabilities. Requests for sign language interpretation or other auxiliary aid should be directed to M. Jan Saunders, (302) 526-5251, at least 5 days prior to any meeting date.

Dated: May 28, 2019.
Rey Israel Marquez,
Acting Deputy Director, Office of Sustainable Fisheries, National Marine Fisheries Service.

[FR Doc. 2019-11440 Filed 5-31-19; 8:45 am]

BILLING CODE 3510-22-P